DEPARTMENT OF ENERGY

Environmental Management Site-Specific Advisory Board, Northern New Mexico

AGENCY: Office of Environmental Management, Department of Energy.

ACTION: Notice of open conference call.

SUMMARY: This notice announces a conference call of the Environmental Management Site-Specific Advisory Board (EM SSAB), Northern New Mexico. The Federal Advisory Committee Act requires that public notice of this conference call be announced in the Federal Register.

DATES: Wednesday, July 22, 2020; 1:00 p.m.-4:00 p.m.

ADDRESSES: Conference Call. To attend, please contact Menice Santistevan by email, Menice.Santistevan@em.doe.gov, no later than 5:00 p.m. MDT on Monday, July 20, 2020.

To sign up for public comment: Please contact Menice Santistevan by email, Menice.Santistevan@em.doe.gov, no later than 5:00 p.m. MDT on Monday, July 20, 2020.

FOR FURTHER INFORMATION CONTACT: Menice Santistevan, Northern New Mexico Citizens' Advisory Board (NNMCAB), 94 Cities of Gold Road, Santa Fe, NM 87506. Phone (505) 995-0393; Fax (505) 989-1752 or Email: Menice.Santistevan@em.doe.gov.

SUPPLEMENTARY INFORMATION: Purpose of the Board: The purpose of the Board is to make recommendations to DOE-EM and site management in the areas of environmental restoration, waste management, and related activities.

Tentative Agenda

• Call to Order

• Welcome and Introductions

• Approval of Agenda

• Approval of May 20, 2020 Conference Call Minutes

• Old Business

○ Report from NNMCAB Chair and Vice Chair

○ Report from Committee Chairs

○ Other Items

• New Business

○ Appointment of Nomination Committee for Election of Officers in September 2020

○ Other Items

• Consideration and Action on Draft Recommendation 2020-03: Consent Order, Appendix B and C

• Update on DP Road

• Update from New Mexico Environment Department

• Update from EM Los Alamos Field Office

• Public Comment Period

• Wrap-Up and Comments from NNMCAB Members

• Adjourn

Public Participation: The conference call is open to the public. Written statements may be filed with the Board either before or after the conference call. The Deputy Designated Federal Officer is empowered to conduct the conference call in a fashion that will facilitate the orderly conduct of business. Individuals wishing to make public comments will be provided a maximum of five minutes to present their comments.

Minutes: Minutes will be available by writing or calling Menice Santistevan at the address or telephone number listed above. Minutes and other Board documents are on the internet at: https://www.energy.gov/em/nnmcab/meeting-materials.

Signed in Washington, DC, on July 2, 2020.
LaTanya Butler,
Deputy Committee Management Officer.

[FR Doc. 2020-14685 Filed 7-7-20; 8:45 am]

BILLING CODE 6450-01-P